ENVIRONMENTAL PROTECTION AGENCY

[ER-FRL-6620-1]

Environmental Impact Statements; Notice of Availability

Responsible Agency

Office of Federal Activities, General Information (202)564-7167 OR www.epa.gov/oeca/ofa.

Weekly receipt of Environmental Impact Statements filed July 9, 2001 Through July 13, 2001 pursuant to 40 CFR 1506.9.

EIS No. 010252, Final EIS, USA, AZ, Yuma Proving Ground Multipurpose Installation, Diversification of Mission and Changes to Land Use, NPDES General Permit and COE Section 404 Permit, Yuma and La Pas Counties, AZ, Wait Period Ends: August 20, 2001, Contact: Junior D. Kerns (520) 328-2148.

EIS No. 010254, Draft EIS, AFS, MT, Gold/Boulder/Sullivan (GBS), Implementation of Timber Harvest and Associated Activities Prescribed Burning, Kootenai National Forest, Rexford Ranger District, Lincoln County, MT, Comment Period Ends: September 4, 2001, Contact: Ron Komac (406) 296-2536.

EIS No. 010255, Final EIS, FRC, FL, MS, AL, Florida Gas Transmission (FGT) Phase V Expansion Project, FGT Natural Gas Pipeline and Associated Above Ground Facilities, Construction and Operation, Approvals and Permit Issuance, Several Counties of FL, AL and MS , Wait Period Ends: August 20, 2001, Contact: David Boergers (202) 208-2088.

EIS No. 010256, Draft EIS, COE, NJ, New Jersey Shore Protection Study, To Determine a Feasible Hurricane and Storm Damage Reduction Plan, between Manasquan Inlet to Barnegat Inlet, Boroughs of Point Pleasant Beach, Bay Head, Mantoloking Lavallette, Seaside Heights and Seaside Park, and Townships of Buck, Dover and Berkeley, NJ, Comment Period Ends: September 4, 2001, Contact: Beth Brandreth (215) 656-6558.

EIS No. 010258, Final EIS, GSA, DC, Bureau of Alcohol, Tobacco and Firearms National Headquarters Building, Site Acquisition, Design and Construction, Washington, D.C., Wait Period Ends: August 27, 2001, Contact: Dawud Abdur-Rahman (202) 260-3368.

EIS No. 010259, Draft EIS, GSA, MD, Suitland Federal Center, Construction and Operation of a 226-acre Federal Employment Center, Programmatic Development Plan and Phase I Implementation, Prince George's County, MD, Comment Period Ends: September 4, 2001, Contact: Jag Bhargava (202) 708-6944.

EIS No. 010260, SECOND FINAL SUPPLE, DOE, SC, Savannah River Site Salt Processing Alternatives, Evaluation for Separating High-Activity and Low-Activity Fractions of Liquid High-Level Radio-active Waste and Potential Environmental Impacts of Alternatives to the In-Tank-Precipitation Process (ITP), Aiken and Barnwell Counties, SC, Wait Period Ends: August 20, 2001, Contact: Andrew R. Grainger (800) 881-7292. This document is available on the Internet at tis.eh.doe.gov/nepa/docs/docs.htm.

EIS No. 010261, FINAL EIS, IBR, CA, Colusa Basin Drainage District, Developing an Integrated Resource Management Program for the Control of Flooding, Glenn, Colusa and Yolo Counties, CA, Wait Period Ends: August 20, 2001, Contact: Russ Smith (530) 275-1554.

Amended Notices

EIS No. 010153, Draft Supplement, BLM, MT, Zortman and Landusky Mines Reclamation Plan, Modifications and Mine Life Extensions, Updated Information To Analyze Additional Reclamation Alternatives, Approval of Mine Operation, Mine Reclamation and COE Section 404 Permit, Little Rocky Mountains, Philip County, MT, Comment Period Ends: August 9, 2001, Contact: Scott Haight (406) 538-1930. Revision of FR Notice Published on 5/11/2001: CEQ Review Period Ending on 7/9/2001 has been Extended to 8/9/2001.

EIS No. 010188, DRAFT EIS, AFS, MT, Burned Area Recovery, Proposal to Reduce Fuels, Improve Watershed Conditions and Reforest Burned Lands, Sula, Darby, West Fork and Stevensville Ranger Districts, Bitterroot National Forest, Ravalli County, MT , Comment Period Ends: July 31, 2001, Contact: Craig Bobzien (406) 363-7100. Revision of FR Notice Published on 6/1/2001: CEQ Review Period Ending 7/16/2001 has been Extended to 7/31/2001.

Dated: July 17, 2001.
Joseph C. Montgomery,
Director, NEPA Compliance Division, Office of Federal Activities.

[FR Doc. 01-18202 Filed 7-19-01; 8:45 am]

BILLING CODE 6560-50-P